COMMITTEE FOR THE IMPLEMENTATION OF TEXTILE AGREEMENTS

Determination Under the African Growth and Opportunity Act

July 21, 2005.

AGENCY: Committee for the Implementation of Textile Agreements (CITA)

ACTION: Directive to the Commissioner of Customs and Border Protection.

SUMMARY: The Committee for the Implementation of Textile Agreements (CITA) has determined that certain textile and apparel goods from Nigeria shall be treated as “handloomed, handmade, folklore articles, or ethnic printed fabrics” and qualify for preferential treatment under the African Growth and Opportunity Act. Imports of eligible products from Nigeria with an appropriate visa will qualify for duty-free treatment.

EFFECTIVE DATE: August 1, 2005.

FOR FURTHER INFORMATION CONTACT: Anna Flaaten, International Trade Specialist, Office of Textiles and Apparel, U.S. Department of Commerce, (202) 482-3400.

SUPPLEMENTARY INFORMATION:

Authority: Sections 112(a) and 112(b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. § 3721(a) and (b)(6)); Sections 2 and 5 of Executive Order No. 13191 of January 17, 2001; Sections 25-27 and Paras. 13-14 of Presidential Proclamation 7912 of June 29, 2005.

AGOA provides preferential tariff treatment for imports of certain textile and apparel products of beneficiary sub-Saharan African countries, including hand-loomed, handmade, or folklore articles of a beneficiary country that are certified as such by the competent authority in the beneficiary country. The AGOA Acceleration Act further expanded AGOA by adding ethnic printed fabrics to the list of textile products made in the beneficiary sub-Saharan African countries that may be eligible for the preferential treatment describes in section 112(a) of the AGOA. In Executive Order 13191 (January 17, 2001) and Presidential Proclamation 7912 (June 29, 2005), the President authorized CITA to consult with beneficiary sub-Saharan African countries and to determine which, if any, particular textile and apparel goods shall be treated as being hand-loomed, handmade, folklore articles, or ethnic printed fabrics. (66 FR at 7271-72 and 70 FR at 37961 & 63).

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, hand-loomed, folklore articles, or ethnic printed fabrics.

CITA has consulted with Nigerian authorities and has determined that hand-loomed fabrics, hand-loomed articles (e.g., hand-loomed rugs, scarves, place mats, and tablecloths), handmade articles made from hand-loomed fabrics, the folklore articles described in Annex A, and ethnic printed fabrics described in Annex B to this notice, if produced in and exported from Nigeria, are eligible for preferential tariff treatment under section 112(a) of the AGOA, as amended. In the letter published below, CITA directs the Commissioner of Customs and Border Protection to allow duty-free entry of such products under U.S. Harmonized Tariff Schedule subheading 9819.11.27 if accompanied by an appropriate AGOA visa in grouping “9”.

James C. Leonard III,
Chairman, Committee for the Implementation of Textile Agreements.

Committee for the Implementation of Textile Agreements

July 21, 2005.

Commissioner,

Bureau of Customs and Border Protection, Washington, DC 20229.

Dear Commissioner: The Committee for the Implementation of Textiles Agreements (“CITA”), pursuant to Sections 112(a) and (b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. § 3721(a) and (b)(6)), Executive Order No. 13191 of January 17, 2001, and Presidential Proclamation 7912 of June 29, 2005, has determined, effective on August 1, 2005, that the following articles shall be treated as “handloomed, handmade, folklore articles, or ethnic printed fabrics” under the AGOA: (a) handloomed fabrics, handloomed articles (e.g., handloomed rugs, scarves, placemats, and tablecloths), and hand-made articles made from handloomed fabrics, if made in Nigeria from fabric handloomed in Nigeria; (b) the folklore articles described in Annex A if made in Nigeria; and (c) ethnic printed fabrics described in Annex B. Such articles are eligible for duty-free treatment only if entered under subheading 9819.11.27 and accompanied by a properly completed visa for product grouping “9”, in accordance with the provisions of the Visa Arrangement between the Government of Nigeria and the Government of the United States Concerning Textile and Apparel Articles Claiming Preferential Tariff Treatment under Section 112 of the Trade and Development Act of 2000. After further consultations with Nigerian authorities, CITA may determine that additional textile and apparel goods shall be treated as folklore articles.

Sincerely,

James C. Leonard III,

Chairman, Committee for the Implementation of Textile Agreements.

Attachment

ANNEX A: Nigerian Folklore Products

CITA has determined that the following textile and apparel goods shall be treated as folklore articles for purposes of the AGOA if made in Nigeria. Articles must be ornamented in characteristic Nigerian or regional folk style. An article may not include modern features such as zippers, elastic, elasticized fabrics, snaps, or hook-and-pile fasteners (such as velcro© or similar holding fabric). An article may not incorporate patterns that are not traditional or historical to Nigeria, such as airplanes, buses, cowboys, or cartoon characters and may not incorporate designs referencing holidays or festivals not common to traditional Nigerian culture, such as Halloween and Thanksgiving.

Eligible folklore articles:

(a) Kaftan:This loose fitting two-piece set contains an ankle length pullover outer tunic and matching trousers. The outer tunic has long sleeves, pockets along the side seam, and side vents at the bottom. It has a round neckline with a slit down the center front. If embroidered, it is along the neckline and sleeves. The trousers are secured at the waist by a drawstring and may be baggy with extra-fullness at the thighs and may contain side seam pockets. This garment can be made from fabric of any weight.

(b) Senegalese: This loose fitting two-piece set contains an ankle length pullover outer tunic garment and matching trousers. The outer tunic has long sleeves, pockets along the side seam, and side vents at the bottom. It usually has a round neckline with a slit down the center front, although necklines may vary and may be embroidered. If embroidered, it is usually along the neckline, front opening and sleeves. The trousers are secured at the waist by a drawstring and may be baggy with extra-fullness at the thighs and may contain side seam pockets. The garment is usually made from dyed material or guinea brocade.

(c) Buba and Sokoto: This loose fitting, two-piece set contains a pullover upper garment and matching trousers. The three-quarter length upper garment has sleeves extending just below the elbow, side vents at the bottom, and may have patch pockets. It has a round neckline with a slit down the center front. The Buba is usually undecorated, but if embroidered, it is usually along the back shoulder and front chest. It has a round, slotted neckline. The Sokoto are trousers that are secured at the waist by a drawstring and may be baggy with extra-fullness at the thighs and may contain side seam pockets. This garment can be made from fabric of any weight.

(d) Kenbe: This loose fitting, two-piece set contains a pullover upper garment and matching trousers. The three-quarter length upper garment has half or three-quarter length sleeves, with side vents at the bottom. The trousers are three-quarter length and are secured at the waist by a drawstring.

(e) Dansiki: This loose fitting two-piece set contains a pullover upper garment and matching trousers. The three-quarter length upper garment is sleeveless, or has short sleeves, and may have patch pockets. Its round neckline may be intricately embroidered. The trousers are secured at the waist by a drawstring and may be baggy with extra-fullness at the thighs and may contain side seam pockets. The garment is frequently made from dyed materials or African prints.

(f) Gbariye: This two-piece, heavily embroidered, three-quarter length ceremonial set contains a pullover upper garment and matching trousers, made of heavy handloomed fabric. The cap sleeved upper garment is heavily embroidered and darted or pleated (i.e. sewn in the form of a pyramid that is wider at the bottom than at the shoulder). This enables the upper garment spin freely during dance ceremonies. The trousers are secured at the waist by a drawstring and may be baggy with extra-fullness at the thighs and may contain side seam pockets. The set may be heavily embroidered, usually along the neck, chest and ankle.

(g) Isiagu or Chieftaincy: This one-piece pullover, three-quarter length garment, worn for special occasions, may have short or long sleeves and may come with golden buttons linked together by a chain that adorn the slotted neck opening. The garment contains pleats or darts on the front, below the shoulder, and has a front patch pocket.

(h) Agbada: This is a three-piece set includes the “Agbada” “Buba”, and “Sokoto”. The Agbada is an oversized outer pullover garment and is usually loose flowing, extending to below the knee or ankle. The embroidery work is on both the back and front sides. The side seams open from the shoulder to bottom hem. The Buba, the inner, pullover garment may have varying length sleeves. The slotted neck may have buttons. The Sokoto are trousers secured at the waist by a drawstring and may be baggy with extra-fullness at the thighs and may contain side seam pockets. The set may or may not be embroidered.

(i) Booboo: This is a woman's pullover garment that is designed as a loose flowing gown. The full-length garment is sleeveless or has short sleeves and has side vents at the bottom. The garment has oversized armholes and no means of closure at the neck. If embroidered, it is usually along the neck and shoulders. May come with a length of fabric used as a matching head wrap.

(j) Buba and Iro: This is a two-piece set. The Buba is a short-sleeved pullover, T-shaped garment reaching the waist and is open at the neck. The Iro is a rectangular piece of fabric that is wrapped around the waist, tucked or tied to secure in place.

(k) Yar Jos: This two-piece set of lightweight fabric contains a three-quarter-length sleeveless pullover upper garment and matching trousers. The sides of the pullover are open from the shoulder to mid-trunk, and have pockets on each side under the arm opening. It has a round neckline with a slit down the center front. The trousers are secured at the waist by a drawstring and may be baggy with extra-fullness at the thighs and may or may not have pockets.

(l) Baban Riga: This loose, three-piece set contains an oversized, three-quarter length pullover outer garment that is open from the shoulder down the side to the bottom edge of the garment, inner tunic and matching trousers. The three-quarter length inner tunic has long or short sleeves and has side vents at the bottom. The trousers are secured at the waist by a drawstring and may be baggy with extra-fullness at the thighs and may contain side seam pockets. This garment may or may not be heavily embroidered.

(m) Jamfa: This two-piece simple wear contains a three-quarter-length pullover upper garment and matching trousers. The upper garment is sewn with long or short sleeves and has side vents at the bottom. It has a round neckline with a slit down the center front. The trousers are secured at the waist by a drawstring and may be baggy with extra-fullness at the thighs and may contain side seam pockets.

(n) Yarshara: This two-piece set of lightweight fabric contains a three-quarter-length sleeveless pullover upper garment and matching trousers. The sides of the pullover are open from the shoulder to mid-trunk, and have pockets on each side under the arm opening. It has a round neckline with a slit down the center front. The trousers are secured at the waist by a drawstring and may be baggy with extra-fullness at the thighs and may contain side seam pockets.

(o) Dandogo: This heavily embroidered three-piece set, made from heavy weight fabric, is worn during special ceremonies and depicts the richness in traditional folklore. It is made from strips of hand loomed fabric that are sewn together. The oversized three-quarter to full-length outer pullover garment contains a V neckline with very large arm openings. The sleeve openings are almost the full length of the garment. The sleeveless three-quarter length underneath pullover garment is wider at the base than the shoulder. It has a round neckline with a slit down the center front. The trousers are secured at the waist by a drawstring and may be baggy with extra-fullness at the thighs and may have side seam pockets.

(p) Abaya: This three-piece set contains an outer fully open robe-styled piece, a three-quarter-length inner pullover upper garment, and matching trousers. The long, almost full-length, oversized, outer garment contains a yarn-tassel closure, short sleeves and is heavily embroidered along the front opening and sleeve caps. The ankle length inner pullover piece has a round neckline with a slit down the center front, has long sleeves, side seam pockets side, vents at the bottom, and is heavily embroidered around the neckline and sleeve cuffs. The trousers are secured at the waist by a drawstring and may be baggy with extra-fullness at the thighs and may contain side seam pockets and are embroidered at the bottom.

(q) Kaftan Falmara: This loose fitting ceremonial two-piece set contains an ankle length pullover outer garment and matching trousers. The outer garment has long sleeves, pockets along the side seam, and side vents at the bottom. It has a round neckline with a slit down the center front. If embroidered, it is usually along the neckline and sleeve cuffs. The garment is similar to a Kaftan, except the Kaftan Falmara has panels resembling a vest, or waistcoat, sewn into the front. The trousers are secured at the waist by a drawstring and may be baggy with extra-fullness at the thighs and may contain side seam pockets.

(r) Zabuni: Originally from the northern part of Nigeria, this two-piece set contains a long-sleeved jacket-like upper garment and matching trousers. More tailored that other folklore articles, the coat styled garment may be fully lined, with patch pocket(s) on the inside. It is heavily decorated with a cord-like appliqué which is hand-sewn on solid colored material around the round neckline, front opening placket, back, sleeves at the cuff, and trousers at the hem. The pocket-less trousers are secured at the waist by a drawstring, and have side vents at the cuff.

(s) Kufta: This lightweight and loose fitting two-piece set contains an ankle length pullover garment and matching trousers. The pullover garment has long sleeves, pockets along the side seam, and side vents at the bottom. It has a round neckline with a slit down the center front. It has long triangular shaped panels under each arm. If embroidered, it is usually along the neck, front opening placket and sleeves. The trousers are secured at the waist by a drawstring and may be baggy with extra-fullness at the thighs and may contain side seam pockets.

(t) Falmara: This garment is similar in shape to a vest or waistcoat, with embroidery around the round neck continuing down the opening. The sleeveless garment may be fully lined with patch pocket(s) on the inside. It could be worn over any long sleeve shirt or top, but usually, it is worn over a Kaftan.

ANNEX B: Nigerian Ethnic Printed Fabrics

Each ethnic-printed fabric must meet all of the criteria listed below:

A) selvedge on both edges

B) width of less than 50 inches

C) classifiable under subheading 5208.52.30 ¹ or 5208.32.40 ² of the Harmonized Tariff Schedule of the United States

¹ printed plain weave fabrics of cotton, 85% or more cotton by weight, weighing over 100g/m2 but not more than 200 g/m2, of yarn number 42 or lower.

² printed plain weave fabrics of cotton, 85% or more cotton by weight, weighing over 100g/m2 but not more than 200g/m2, of yarn numbers 43-68

D) contains designs, symbols, and other characteristics of African prints normally produced for and sold in Africa by the piece (6 or 12 yard fixed lengths or by the piece or in roll or bolt form) ³

³ For our purposes, fabric by the piece does mean in roll or bolt form.

E) generally designed with colorful, repeating patterns and motifs described in “D”

F) penetration of dye prints both sides of the fabric creating a “duplex effect” such that both the face and the back of the fabric appear the same

G) made from fabric woven in the U.S. using U.S. yarn or woven in one or more eligible sub-Saharan beneficiary countries using U.S or African yarn

H) printed, including waxed in one or more eligible sub-Saharan beneficiary countries

I) inscription of the design number and manufacturer's brand name and/or logo on the selvedge edge of the companies listed in “J”

J) must be manufactured by one of the companies in the list below in “i through xi”:

i. African Textile Manufacturers Ltd

ii. Angel Spinning & Dyeing Ltd

iii. Bhojraj Industries PLC

iv. Dangote General Textile Products, Ltd

v. General Cotton Mills Ltd

vi. Gaskiya Textile Mills PLC

vii. Holborn Nigeria Ltd

viii. Hong Kong Synthetic Fibre Co. Nig Ltd

ix. Reliance Textile Industries Ltd

x. Sunflag Nig Ltd

xi. United Nigerian Textiles PLC

[FR Doc. E5-4004 Filed 7-26-05; 8:45 am]

BILLING CODE 3510-DS-S